DEPARTMENT OF DEFENSE

Office of the Secretary

Privacy Act of 1974; System of Records

AGENCY: Office of the Secretary, DoD.

ACTION: Notice to amend systems of records.

SUMMARY: The Office of the Secretary of Defense is amending a system of records notice in its existing inventory of record systems subject to the Privacy Act of 1974, (5 U.S.C. 552a), as amended.

DATES: This proposed action will be effective without further notice on January 30, 2006 unless comments are received which result in a contrary determination.

ADDRESSES: Send comments to the OSD Privacy Act Coordinator, Records Management Section, Washington Headquarters Services, 1155 Defense Pentagon, Washington, DC 20301-1155.

FOR FURTHER INFORMATION CONTACT: Ms. Juanita Irvin at (703) 696-4940.

SUPPLEMENTARY INFORMATION: The Office of the Secretary of Defense systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: December 22, 2005.
Linda Bynum,
OSD Federal Register Liaison Officer, Department of Defense.

DWHS P27

System name:

Department of Defense (DOD) Pentagon Building Pass File (August 25, 1995, 60 FR 44321).

Changes:

* * * * *

System Location:

Delete entry and replace with: “Pentagon Force Protection Agency, Security Services Directorate, Pentagon Access Control Division, 9000 Defense Pentagon, Washington, DC 20301-9000.''

* * * * *

Purpose(s):

Delete entry and replace with: “This information is used by officials of Pentagon Force Protection Agency, Defense Facilities Directorate and Washington Headquarters Services to maintain a listing of personnel who are authorized a DoD Pentagon Building Pass or access to the Pentagon.”

* * * * *

Retention and disposal:

Delete entry and replace with: “Identification credentials including cards, badges, parking permits, photographs, agency permits to operate motor vehicles, and property, dining room and visitors passes, and other identification credentials. Destroy credentials 3 months after return to issuing office.”

System manager(s) and address:

Delete entry and replace with: “Pentagon Force Protection Agency, Security Services, Security Services Directorate, Pentagon Access Control Division, Room 1F1084, 9000 Defense Pentagon, Washington, DC 20301-9000.”

Notification procedure:

Delete address and replace with: “Pentagon Force Protection Agency, Security Services, Security Services Directorate, Pentagon Access Control Division, Room 1F1084, 9000 Defense Pentagon, Washington, DC 20301-9000.”

Record access procedures:

Delete address and replace with: “Pentagon Force Protection Agency, Security Services, Security Services Directorate, Pentagon Access Control Division, Room 1F1084, 9000 Defense Pentagon, Washington, DC 20301-9000.”

* * * * *

DWHS P27

System name:

Department of Defense (DoD) Pentagon Building Pass File.

System location:

Pentagon Force Protection Agency, Security Services Directorate, Pentagon Access Control Division, 9000 Defense Pentagon, Washington, DC 20301-9000.

Categories of individuals covered by the system:

Any Department of Defense military or civilian employee sponsored by the Department of Defense, or other persons who have reason to enter the Pentagon for official Department of Defense business, and who therefore require an entry pass.

Categories of records in the system:

File contains name, sponsoring office of the Department of Defense and activities serviced by Washington Headquarters Services (WHS), sex, height, weight, date, place of birth, Social Security Number, race, citizenship, and access investigation completion date, access level, previous pass issuances, authenticating official, total personnel from all sites, and audit counts.

Authority for maintenance of the system:

5 U.S.C. 301, Departmental Regulations; E.O. 9397 (SSN) and E.O. 12958.

Purpose(s):

This information is used by officials of Pentagon Force Protection Agency, Defense Facilities Directorate and Washington Headquarters Services to maintain a listing or personnel who are authorized a DoD Pentagon Building Pass or access to the Pentagon.

Routine uses of records maintained in the system, including categories of users and the purposes of such uses:

In addition to those disclosures generally permitted under 5 U.S.C. 552(b) of the Privacy Act, these records or information contained therein may specifically be disclosed outside the DoD as a routine use pursuant to 5 U.S.C. 552(b)(3) as follows:

The ‘Blanket Routine Uses’ set forth at the beginning of OSD's compilation of systems of records notices apply to this system.

Policies and practices for storing, retrieving, accessing, retaining, and disposing of records in the system:

Storage:

Electronic database.

Retrievability:

Electronic database accessible by individual's name, Social Security Number and pass number.

Safeguards:

Secure room. Building has DoD Police Officers.

Retention and disposal:

Identification credentials including cards, badges, parking permits, photographs, agency permits to operate motor vehicles, and property, dining room and visitors passes, and other identification credentials. Destroy credentials 3 months after return to issuing office.

System manager(s) and address:

Pentagon Force Protection Agency, Security Services, Security Services Directorate, Pentagon Access Control Division, Room 1F1084, 9000 Defense Pentagon, Washington, DC 20301-9000.

Notification procedure:

Individuals seeking to determine whether information about themselves is contained in this system should address written inquiries to Pentagon Force Protection Agency, Security Services, Security Services Directorate, Pentagon Access Control Division, Room 1F1084, 9000 Defense Pentagon, Washington, DC 20301-9000.

Record access procedures:

Individuals seeking access to information about themselves contained in this system should address written inquires to Pentagon Force Protection Agency, Security Services, Security Services Directorate, Pentagon Access Control Division, Room 1F1084, 9000 Defense Pentagon, Washington, DC 20301-9000.

Contesting record procedures:

The OSD rules for accessing records, for contesting contents and appealing initial agency determinations are published in OSD Administrative Instruction 81; 32 CFR part 311; or may be obtained from the system manager.

Record source categories:

All data maintained in the system is received voluntarily from individual DoD Pentagon Building Pass Applications.

Exemptions claimed for the system:

None.

[FR Doc. 05-24570 Filed 12-28-05; 8:45 am]

BILLING CODE 5001-06-M